DEPARTMENT OF ENERGY

Federal Energy Regulatory Commission

[Docket No. EC05-68-000, et al.]

Tenaska Power Fund, L.P., et al.; Electric Rate and Corporate Filings

April 19, 2005.

The following filings have been made with the Commission. The filings are listed in ascending order within each docket classification.

1. Tenaska Power Fund, L.P., TPF Calumet, LLC, Calumet Energy Team, LLC, CET Two, LLC

[Docket No. EC05-68-000]

Take notice that on April 14, 2005, Tenaska Power Fund, L.P. (Power Fund), TPF Calumet, LLC (TPF Calumet), Calumet Energy Team, LLC (CET), and CET Two, LLC (CET Two) (collectively, Applicants) tendered for filing with the Federal Energy Regulatory Commission pursuant to section 203 of the Federal Power Act and Part 33 of the Commission's regulations, an application authorizing TPF Calumet to purchase all of the membership interests in CET from CET Two. CET states it owns an approximately 300 MW electric generating facility located in Chicago, Illinois. Applicants request confidential treatment of certain parts of the Application.

Applicants state that a copy of the filing was served on the Illinois Commerce Commission.

Comment Date: 5 p.m. eastern time on May 5, 2005.

2. Pinnacle West Energy Corporation; Arizona Public Service Company

[Docket No. EC05-69-000]

Take notice that on April 15, 2005, Pinnacle West Energy Corporation (PWEC) and Arizona Public Service Company (APS) filed with the Federal Energy Regulatory Commission an application pursuant to section 203 of the Federal Power Act for authorization of a disposition by PWEC and the acquisition by APS of jurisdictional facilities. Applicants states that it seeks authorization for the transfer, directly or indirectly, by PWEC to APS of certain jurisdictional facilities, specifically the step-up transformers, tie lines, switchyard and associated jurisdictional facilities of the following generating units: Saguaro Combustion Turbine Unit 3 located in Red Rock, Arizona; West Phoenix Combined Cycle Unit 4 located in Phoenix, Arizona; West Phoenix Combined Cycle Unit 5 located in Phoenix, Arizona; Redhawk Combined Cycle Unit 1 located in Arlington, Arizona; and Redhawk Combined Cycle Unit 2 located in Arlington, Arizona.

Comment Date: 5 p.m. eastern time on May 6, 2005.

3. FPL Energy Horse Hollow Wind, LP

[Docket No. EG05-58-000]

Take notice that on April 13, 2005, FPL Energy Horse Hollow Wind, LP (FPLE Horse Hollow), filed with the Federal Energy Regulatory Commission an application for determination of exempt wholesale generator status pursuant to part 365 of the Commission's regulations.

FPLE Horse Hollow states it will own an approximate wind-powered generating facility of up to 305 MW located in Taylor County, Texas.

Comment Date: 5 p.m. eastern time on May 4, 2005.

4. San Joaquin Cogen, L.L.C.

[Docket No. EG05-59-000]

Take notice that on April 14, 2005, San Joaquin Cogen, L.L.C. (San Joaquin), filed with the Commission an application for prospective determination of exempt wholesale generator status pursuant to part 365 of the Commission's regulations.

San Joaquin states that it is a limited liability company, organized under the laws of the State of Delaware, and engaged directly and exclusively in owning and operating the San Juaquin Cogen, L.L.C. electric generating facility located in Lathrop, California, and selling electric energy at wholesale from the facility.

Comment Date: 5 p.m. eastern time on May 5, 2005.

5. Brascan Power Piney & Deep Creek LLC

[Docket No. EG05-60-000]

Take notice that on April 15, 2005, Brascan Power Piney & Deep Creek LLC (Brascan Power PDC) filed an application for a determination of exempt wholesale generator status pursuant to part 365 of the Commission's regulations. Brascan Power PDC states that it is a Delaware limited liability company that will acquire and operate the Piney Hydroelectric Project (Project No. 309) and the Deep Creek Hydroelectric Project (formerly licensed by the Commission as Project No. 2370), from Reliant Energy Mid-Atlantic Power Holdings, LLC and Reliant Energy Maryland Holdings, LLC, respectively.

Comment date: 5 p.m. eastern standard time on May 6, 2005.

6. Central Hudson Gas & Electric Corporation; Niagara Mohawk Power Corporation

[Docket Nos. ER97-1523-084, OA97-470-076, ER97-4234-074, and OA96-194-012]

Take notice that April 12, 2005, Niagara Mohawk Power Corporation, a National Grid Company, and the New York Independent System Operator, Inc. jointly submit this compliance filing pursuant to the Commission's Order Approving Uncontested Settlement Agreement issued on March 25, 2005 in the above-referenced proceedings.

Comment Date: 5 p.m. eastern time on May 3, 2005.

7. Oklahoma Gas and Electric Company; OGE Energy Resources, Inc.

[Docket Nos. ER98-511-004 and ER97-4345-016]

Take notice that on April 11, 2005, Oklahoma Gas and Electric Company (OG&E) and OGE Energy Resources, Inc. (OERI) submitted blacklined versions of the market-based rate tariffs of Oklahoma Gas and Electric Company (FERC Electric Tariff, First Revised Volume No. 3) and OGE Energy Resources, Inc. (Second Revised Rate Schedule FERC No. 1) originally filed on February 7, 2005 in Docket Nos. ER98-511-013 and ER97-4345-015.

OG&E states that copies of the filing were served upon all parties in Docket Nos. ER98-511-000 and ER97-4345-000.

Comment Date: 5 p.m. eastern time on May 2, 2005.

8. California Independent System Operator Corporation

[Docket Nos. ER98-997-007, ER98-1309-006, ER02-2297-006, and ER02-2298-006]

Take notice that, on April 12, 2005, the California Independent System Operator Corporation (ISO) submitted a filing in compliance with the Commission's “order “ issued on February 11, 2005, in the above-identified dockets, 110 FERC ¶ 61,124.

The ISO states that this filing has been served on all parties on the official service lists for the captioned dockets. In addition, the ISO is posting this filing on the ISO Home Page.

Comment Date: 5 p.m. eastern time on May 3, 2005.

9. UGI Development Company

[Docket No. ER99-2817-003]

Take notice that on April 12, 2005, UGI Development Company filed its market-based rate update pursuant to the Commission's Order in AEP Power Marketing, Inc. et al., 107 FERC ¶ 61,018 (2004).

Comment Date: 5 p.m. eastern time on May 3, 2005.

10. Casco Bay Energy Company, LLC

[Docket No. ER99-3822-006]

Take notice that, on April 12, 2005, Casco Bay Energy Company, LLC submitted for filing revisions to its market-based rate tariff, designated as FERC Electric Tariff, Original Volume No. 1, to include the change in status reporting requirements adopted in Reporting Requirement for Changes in Status for Public Utilities With Market-Based Rate Authority, Order No. 652, 110 FERC ¶ 61,097 (2005).

Casco Bay states that copies of the filing were served upon the parties on the official service list in the above-captioned proceeding.

Comment Date: 5 p.m. eastern time on May 3, 2005.

11. Pinnacle West Capital Corporation; Arizona Public Service Company; Pinnacle West Energy Corporation; APS Energy Services Company, Inc.

[Docket Nos. ER00-2268-011, EL05-10-003, ER99-4124-009, EL05-11-003, ER00-3312-010, EL05-12-003, ER99-4122-012, and EL05-13-003]

Take notice that on April 11, 2005, Arizona Public Service Company (APS) and Electrical District Number Seven of Maricopa County, Roosevelt Irrigation District, Buckeye Water Conservation and Drainage District, Maricopa County Municipal Water Conservation District Number One, Aguila Irrigation District, Harquahala Valley Power District, Electrical District Number Eight of Maricopa County, McMullen Valley Water Conservation and Drainage District, Tonopah Irrigation District, and Electrical District Number 6 of Pinal County (collectively the Majority Districts), submitted a Settlement Agreement in order to resolve issued raised by the Majority Districts concerning APS' market-based rates.

Comment Date: 5 p.m. eastern time on May 2, 2005.

12. Otter Tail Power Company

[Docket No. ER00-3080-002]

Take notice that on April 11, 2005, Otter Tail Power Company (Otter Tail) submitted its updated market analysis as required by the Federal Energy Regulatory Commission's orders in AEP Power Marketing, Inc. 107 FERC ¶ 61,018, order on reh'g, 108 FERC ¶ 61,026 (2004).

Otter Tail states that copies of the public version of this filing have been served on all parties to the proceeding captioned above, as well as the state commissions of Minnesota, North Dakota, and South Dakota.

Comment Date: 5 p.m. eastern time on May 2, 2005.

13. Mill Run Windpower, LLC

[Docket Nos. ER01-1710-005 and ER05-660-001]

Take notice that on April 15, 2005, Mill Run Windpower, LLC (Mill Run) filed a supplement to its February 28, 2005 filing in Docket Nos. ER01-1710-004 and ER05-660-000.

Mill Run states that copies of the filing were served on parties on the official service lists for Docket Nos. ER01-1710 and ER05-660 and on the Florida Public Service Commission.

Comment Date: 5 p.m. eastern time on April 22, 2005.

14. Somerset Windpower, LLC

[Docket Nos. ER01-2139-006 and ER05-661-001]

Take notice that, on April 15, 2005, Somerset Windpower, LLC (Mill Run) filed a supplement to its February 28, 2005 filing in Docket Nos. ER01-2139-005 and ER05-661-000.

Mill Run states that copies of the filing were served on parties on the official service list for Docket Nos. ER01-2139 and ER05-661 and on the Florida Public Service Commission.

Comment Date: 5 p.m. eastern time on April 22, 2005.

15. Ontario Energy Trading International Corp.

[Docket No. ER02-1021-004]

Take notice that on April 11, 2005, Ontario Energy Trading International Corp. (Ontario Energy) submitted a compliance filing pursuant to the Commission's new interim generation market power screens issued on April 14, 2004 in AEP Power Marketing Inc., et al., 107 FERC ¶ 61,018 (2004), order on reh'g., 108 FERC ¶ 61,026 (2004).

Ontario Energy states that copies of the filing were served on parties on the official service list in Docket No. ER02-1021-000.

Comment Date: 5 p.m. eastern time on May 2, 2005.

16. Entergy Services, Inc.

[Docket No. ER03-811-003]

Take notice that on April 12, 2005, Entergy Services, Inc., on behalf of Entergy Louisiana, Inc., tendered for filing with the Federal Energy Regulatory Commission, a compliance Interconnection and Operating Agreement with Occidental Chemical Corporation in response to the Commission's December 22, 2004, order in Entergy Services, Inc., 109 FERC ¶ 61,342 (2004), reh'g denied, 110 FERC ¶ 61,365 (2005).

Comment Date: 5 p.m. eastern time on May 3, 2005.

17. California Independent System Operator Corporation

[Docket No. ER05-416-004]

Take notice that, on April 12, 2005, the California Independent System Operator Corporation (ISO) submitted an informational filing regarding to the ISO's updated transmission Access Charge rates effective as of January 1, 2005.

The ISO states that this filing has been served upon the Public Utilities Commission of the State of California, the California Energy Commission, the California Electricity Oversight Board, the Participating Transmission Owners, and upon all parties with effective Scheduling Coordinator Service Agreements under the ISO Tariff. In addition, ISO states it is posting the filing on the ISO Home Page.

Comment Date: 5 p.m. eastern time on May 3, 2005.

18. Midwest Independent Transmission System Operator, Inc.

[Docket No. ER05-579-000]

Take notice that on April 8, 2005 Midwest Independent Transmission System Operator, Inc. (Midwest ISO) submitted for filing a withdrawal of its February 15, 2005 filing of Amendment No. 1 to the Generation-Transmission Interconnection Agreement among Wisconsin Electric Power Company, the Midwest ISO and American Transmission Company LLC for the Elm Road Generating Facility.

Midwest ISO states that it has served the foregoing document upon each person designated on the official service list compiled by the Secretary in the above-captioned proceeding.

Comment Date: 5 p.m. eastern time on April 29, 2005.

19. Midwest Independent Transmission System Operator, Inc.

[Docket No. ER05-590-000]

Take notice that on April 8, 2005, Midwest Independent Transmission System Operator, Inc. (Midwest ISO) submitted for filing a withdrawal of its February 16, 2005 filing of Amendment No. 1 to the Generation-Transmission Interconnection Agreement among Wisconsin Electric Power Company, the Midwest ISO and American Transmission Company LLC for the Port Washington Generating Facility.

Midwest ISO states that it has served the foregoing document upon each person designated on the official service list compiled by the Secretary in the above-captioned proceeding.

Comment Date: 5 p.m. eastern time on April 29, 2005.

20. Gexa Energy LLC

[Docket No. ER05-714-001]

Take notice that on April 8, 2005, Gexa Energy LLC (Gexa), filed an amendment to its March 21, 2005 petition requesting Commission acceptance of Gexa's Rate Schedule FERC No. 1; the granting of certain blanket approvals, including the authority to sell electricity at market-based rates; and the waiver of certain Commission regulations.

Comment Date: 5 p.m eastern time on April 29, 2005.

21. ISO New England Inc.

[Docket No. ER05-767-001]

Take notice that on April 15, 2005, ISO New England Inc. (the ISO) submitted for filing a motion for expedited consideration and to revise the effective date requested in the Amendments to Appendix A of Market Rule 1 Regarding Reference Price Calculations, filed in this proceeding jointly by the ISO and the New England Power Pool Participants Committee on April 1, 2005.

Comment Date: 5 p.m. eastern time on April 22, 2005.

22. California Independent System Operator Corporation

[Docket No. ER05-796-000]

Take notice that on April 8, 2005, the California Independent System Operator Corporation (ISO) tendered for filing an amendment to the ISO Tariff (Amendment No. 67) for acceptance by the Commission. The ISO states that the purpose of Amendment No. 67 is to revise the ISO Tariff provisions concerning the deadline for submitting supplemental energy bids to the CAISO, to provide for a deadline of 62 minutes prior to the operating hour rather than 60 minutes prior to the operating hour as currently stated in the ISO Tariff. The ISO requests an effective date of April 9, 2005.

The ISO states that this filing has been served on the California Public Utilities Commission, the California Energy Commission, the California Electricity Oversight Board, all parties with effective Scheduling Coordinator Service Agreements under the ISO Tariff, and all parties in Docket No. EL04-132. In addition, the ISO states that it has posted the filing on its Web site.

Comment Date: 5 p.m. eastern time on April 29, 2005.

23. Orange and Rockland Utilities, Inc.

[Docket No. ER05-797-000]

Take notice that on April 8, 2005, Orange and Rockland Utilities, Inc. (O&R) tendered for filing an amendment to its open access transmission tariff, FERC Electric Tariff, Original Volume No. 3. O&R states that the filing proposes a surcharge mechanism applicable to costs associated with the undergrounding of existing transmission facilities at the request or requirement of municipal governmental authorities. O&R requests an effective date of May 1, 2005.

Comment Date: 5 p.m. eastern time on April 29, 2005.

24. Virtual Energy, Inc.

[Docket No. ER05-798-000]

Take notice that on April 8, 2005, Virtual Energy, Inc. (Virtual Energy) petitioned the Commission for acceptance of Virtual Energy, Inc. Rate Schedule FERC No. 1, under which Virtual Energy will engage in wholesale electric power and energy transactions as a marketer; the granting of certain blanket approvals, including the authority to sell electricity at market based rates; and the waiver of certain Commission regulations.

Comment Date: 5 p.m. eastern time on April 29, 2005.

25. Southwest Power Pool, Inc.

[Docket No. ER05-799-000]

Take notice that on April 8, 2005, Southwest Power Pool, Inc. (SPP) submitted for filing a partially executed service agreement for network integration transmission service (service agreement) between SPP and Oklahoma Municipal Power Authority (OMPA), as well as an executed Network Operating Agreement (NOA) between SPP, OMPA and Oklahoma Gas and Electric Company (OKGE). SPP requests an effective date of April 1, 2005.

SPP states that both OMPA and OKGE were served with a copy of this filing.

Comment Date: 5 p.m. eastern time on April 29, 2005.

26. Mirabito Gas & Electric, Inc.

[Docket No. ER05-800-000]

Take notice that on April 8, 2005, Mirabito Gas & Electric, Inc. (Marabito) filed a Notice of Cancellation of its market-based rate authority in Docket No. ER00-3717-000, effective December 8, 2000.

Comment Date: 5 p.m. eastern time on April 29, 2005.

27. Naniwa Energy LLC

[Docket No. ER05-801-000]

Take notice that on April 8, 2005, Naniwa Energy LLC (Naniwa) submitted Notices of Cancellation of Service Agreement Nos. 1 and 2 under Naniwa's FERC Electric Tariff, Original Volume No. 1, effective July 20, 2004. Naniwa states that all consents have been obtained for such cancellation and that a copy of this filing has been served upon the customers under the service agreements.

Comment Date: 5 p.m. eastern time on April 29, 2005.

28. Midwest Independent Transmission System Operator, Inc.

[Docket No. ER05-802-000]

Take notice that on April 8, 2005, the Midwest Independent Transmission System Operator, Inc. (Midwest ISO) submitted, pursuant to section 205 of the Federal Power Act, revisions to the Midwest ISO's open access transmission and energy markets tariff to address several issues related to financial transmission rights. The Midwest ISO requests and effective date of May 6, 2005.

The Midwest ISO has requested waiver of the service requirements set forth in 18 CFR § 385.2010. The Midwest ISO states that it has electronically served a copy of this filing, with attachments, upon all Tariff Customers under the EMT, Midwest ISO Members, Member representatives of Transmission Owners and Non-Transmission Owners, the Midwest ISO Advisory Committee participants, as well as all state commissions within the region. In addition, the Midwest ISO states that the filing has been electronically posted on the Midwest ISO's Web site at http://www.midwestiso.org under the heading “Filings to FERC” for other interested parties in this matter. The Midwest ISO further states that it will provide hard copies to any interested parties upon request.

Comment Date: 5 p.m. eastern time on April 29, 2005.

29. Midwest Independent Transmission System Operator, Inc.

[Docket No. ER05-803-000]

Take notice that, on April 8, 2005, the Midwest Independent Transmission System Operator, Inc. (Midwest ISO) submitted proposed revisions to Attachment H-1 (Index of Interconnection Agreement Customers) of its energy markets tariff to reflect the addition of an interconnection agreement to be executed between Indiana & Michigan, Northern Indiana Public Service Company, PJM Interconnection, Inc. and the Midwest ISO as Service Agreement No. 1524 in compliance with the Commission's March 9, 2005 Order Conditionally Accepting Filing and Instituting section 206 Proceeding, 110 FERC ¶ 61,276 (2005).

The Midwest ISO states that copies of the filing were served on parties on the official service list in Docket Nos. ER05-31-000 and EL05-70-000. In addition, the Midwest ISO states that it has served a copy of this filing electronically, including attachments, upon all Tariff Customers under the EMT, Midwest ISO Members, Member representatives of Transmission Owners and Non-Transmission Owners, the Midwest ISO Advisory Committee participants, as well as all state commissions within the region. The Midwest ISO further states that the filing has also been posted electronically on the Midwest ISO's Web site at http://www.midwestiso.org under the heading “Filings to FERC” for other interested parties in this matter.

Comment Date: 5 p.m. eastern time on April 29, 2005.

30. Southern California Edison Company

[Docket No. ER05-804-000]

Take notice that on April 8, 2005, Southern California Edison Company (SCE) submitted for filing an Interconnection Facilities Agreement (Interconnection Agreement), Service Agreement No. 137 under SCE's Wholesale Distribution Access Tariff (WDAT), FERC Electric Tariff, First Revised Volume No. 5, and an associated Service Agreement for Wholesale Distribution Service (WDAT Service Agreement), Service Agreement No. 138 under the WDAT, between SCE and the City of Moreno Valley (Moreno Valley). SCE states that the purpose of the Interconnection Agreement and the WDAT Service Agreement is to specify the terms and conditions under which SCE will provide Wholesale Distribution Service from the California Independent System Operator Controlled Grid at SCE's Valley Substation to a new Moreno Valley 12 kV interconnection at Moreno Valley owned property located on the southwest corner of Cottonwood Avenue and Redlands Boulevard in Riverside County, California.

SCE states that copies of the filing were served upon the Public Utilities Commission of the State of California and Moreno Valley.

Comment Date: 5 p.m. eastern time on April 29, 2005.

31. Westar Energy, Inc.

[Docket No. ER05-805-000]

Take notice that on April 8, 2005, Westar Energy, Inc. (Westar) submitted for filing a Notice of Cancellation for Rate Schedule FERC No. 230, an Electric Power Supply Agreement between Westar and the City of Enterprise, Kansas.

Westar states that copies of the filing were served upon the Kansas Corporation Commission and the City of Enterprise, Kansas.

Comment Date: 5 p.m. eastern time on April 29, 2005.

32. Westar Energy, Inc.

[Docket No. ER05-806-000]

Take notice that on April 11, 2005, Kansas Gas and Electric Company and Westar Energy, Inc. (collectively Westar Energy) submitted for filing a Notice of Cancellation for Rate Schedules FERC Nos. 193, 195, 196, 197 and 198, Generating Municipal Electric Service Agreements between Westar Energy and the City of Burlington, Kansas; City of Mulvane, Kansas; City of Neodesha, Kansas; City of Wellington, Kansas and the City of Winfield, Kansas.

Westar Energy states that copies of the filing were served upon the City of Burlington, Kansas; City of Mulvane, Kansas, City of Neodesha, Kansas, City of Wellington, Kansas; City of Winfield, Kansas and the Kansas Corporation Commission.

Comment Date: 5 p.m. eastern time on May 2, 2005.

33. Pacific Gas and Electric Company

[Docket No. ER05-807-000]

Take notice that on April 11, 2005, Pacific Gas and Electric Company (PG&E) tendered for filing a Generator Special Facilities Agreement (GSFA), and Generator Interconnection Agreement (GIA) between PG&E and Diablo Winds, LLC (Diablo Winds) (collectively, Parties). PG&E states that the GSFA permits PG&E to recover the ongoing costs associated with owning, operating and maintaining the Special Facilities for the Parties. PG&E states that the GIA provides terms and conditions for billing, operation, maintenance and metering. PG&E further states that as detailed in the GSFA, PG&E proposes to charge Diablo Winds a monthly Cost-of-Ownership Charge equal to the rate for transmission-level, customer-financed facilities.

PG&E states that copies of this filing have been served upon Diablo Winds, California Independent System Operator Corporation and the California Public Utilities Commission.

Comment Date: 5 p.m. eastern time on May 2, 2005.

34. Eagle Point Cogeneration Partnership

[Docket No. ER05-808-000]

Take notice that on April 11, 2005, pursuant to section 35.15, 18 CFR 35.15 (2004), of the Commission's Regulations, Eagle Point Cogeneration Partnership (Eagle Point) filed with the Commission a Notice of Cancellation of market-based rate authority under the applicant's FERC Electric Tariff, Revised Volume No. 1. Eagle Point requests an effective date of April 11, 2005.

Comment Date: 5 p.m. eastern time on May 2, 2005.

35. Midwest Independent Transmission

[Docket No. ER05-809-000]

Take notice that on April 12, 2005 the Midwest Independent Transmission System Operator, Inc. (Midwest ISO) submitted, pursuant to section 205 of the Federal Power Act, revisions to section 7 (Billing and Payments; Defaults and Remedies) and Attachment L (Credit Policy) of the Midwest ISO's Open Access Transmission and Energy Markets Tariff. The Midwest ISO has requested June 11, 2005 as the effective date for the tariff sheets submitted as part of this filing.

Comment Date: 5 p.m. eastern time on May 3, 2005.

36. UGI Energy Services, Inc.

[Docket No. ER05-810-000]

Take notice that on April 12, 2005, UGI Energy Services, Inc. filed a wholesale power sales tariff to sell capacity, energy, and certain ancillary services at market-based rates.

Comment Date: 5 p.m. eastern time on May 3, 2005.

37. New England Power Pool; ISO New England Inc.

[Docket Nos. ER05-811-000 and PL05-3-000]

Take notice that on April 12, 2005, ISO New England Inc. (the ISO) and the New England Power Pool (NEPOOL) Participants Committee jointly filed for acceptance amendments (the Amendments) to the ISO Financial Assurance Policy for Market Participants, the ISO Financial Assurance Policy for Non-Market Participant Transmission Customers, and the ISO Financial Assurance Policy for Non-Market Participant FTR Customers and Non-Market Participant Demand Response Providers, which are, respectively, Exhibits 1A, 1B & 1C to Section I of the ISO Transmission, Markets and Services Tariff. A June 1, 2005 effective date for the filed changes is requested. The ISO states that they also filed the Amendments as an update to its prior compliance filing in Docket No. PL05-3-000.

NEPOOL and the ISO state that copies of these materials were sent to the New England state governors and regulatory commissions and all customers under the ISO Transmission, Markets and Services Tariff.

Comment Date: 5 p.m. eastern time on May 3, 2005.

38. Consolidated Edison Company of New York, Inc.

[Docket No. ER05-812-000]

Take notice that on April 12, 2005, Consolidated Edison Company of New York, Inc. (Con Edison) tendered for filing amendments to Con Edison's Delivery Rate Schedule No. 96 (PASNY Tariff) and Economic Development Delivery Service Rate Schedule No. 92 (EDDS Tariff). Con Edison states that the filing proposes to revise the rates, terms, and conditions for delivery services that Con Edison provides under contracts with the New York Power Authority, the County of Westchester Public Utility Service Agency, and the New York City Public Utility Service. Con Edison requests that the proposed amendments be made effective on April 1, 2005.

Comment Date: 5 p.m. eastern time on May 3, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-2035 Filed 4-27-05; 8:45 am]

BILLING CODE 6717-01-P